DEPARTMENT OF ENERGY

10 CFR Part 431

[Docket Number EERE-2006-STD-0125]

RIN 1904-AB58

Energy Conservation Program: Energy Conservation Standards for Refrigerated Bottled or Canned Beverage Vending Machines

Correction

In rule document E9-19392 beginning on page 44914 in the issue of Monday, August 31, 2009, make the following correction:

1. On page 44914, in the first column, under the DATES section, in the fourth line, “August 31, 2011” should read “August 31, 2012”.

§431.296 [Corrected]

2. On page 44967, in § 431.296, in the third and fourth lines, “[Insert date 3 years from the date of publication of this final rule]” should read “August 31, 2012”.

[FR Doc. Z9-19392 Filed 9-4-09; 8:45 am]

BILLING CODE 1505-01-D